DEPARTMENT OF AGRICULTURE

Submission for OMB Review; Comment Request

The Department of Agriculture will submit the following information collection requirement(s) to OMB for review and approval under the Paperwork Reduction Act of 1995, Public Law 104-13 on or after the date of publication of this notice. Comments are requested regarding: (1) whether the collection of information is necessary for the proper performance of the functions of the agency, including whether the information will have practical utility; (2) the accuracy of the agency's estimate of burden including the validity of the methodology and assumptions used; (3) ways to enhance the quality, utility and clarity of the information to be collected; and (4) ways to minimize the burden of the collection of information on those who are to respond, including through the use of appropriate automated, electronic, mechanical, or other technological collection techniques or other forms of information technology.

Comments regarding these information collections are best assured of having their full effect if received by October 19, 2023. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

National Agricultural Statistics Service

Title: Iowa Commercial Horticulture Food Crop Survey.

OMB Control Number: 0535-0264.

Summary of Collection: The primary objectives of the National Agricultural Statistics Service (NASS) are to prepare and issue official State and national estimates of crop and livestock production, disposition and prices, economic statistics, and environmental statistics related to agriculture and to conduct the Census of Agriculture and its follow-on surveys. This project will target Iowa's edible horticulture crop producers using a sample of all Iowa operations on the NASS list frame known to produce edible horticulture crops.

General authority for these data collection activities is granted under U.S.C. Title 7, Section 2204. This survey will be conducted on a full cost recovery basis with the Iowa State University Extension & Outreach (ISU) in cooperation with the Iowa Department of Agriculture and Land Stewardship (IDALS).

Need and Use of the Information: For this survey period, NASS will collect data on how the COVID-19 pandemic disrupted many things, including food supply chains. The Iowa Horticulture industry would like to understand how the COVID-19 pandemic affected the long-term viability of farms that produce specialty crops. Anecdotally, it is understood that at the beginning of the pandemic specialty crop producers who delivered products direct to consumers benefited, as did pick-your-own operations. Some who sold to farmers markets benefit while others lost sales, depending on whether and how their market chose to open in the 2020 season. Repeating the survey for the 2023 growing season with additional questions regarding the impact of the pandemic will help them understand the state of specialty crop production in Iowa as the pandemic shifts into a new phase.

Description of Respondents: The Iowa Commercial Horticulture Food Crop Survey will be a census of all Iowa operations known to produce edible horticulture crops that include fruits, nuts, vegetables, berries, herbs, honey, maple syrup, and mushrooms.

Number of Respondents: 3,200.

Frequency of Responses: Reporting: One a year.

Total Burden Hours: 1,093.

Levi S. Harrell,
Departmental Information Collection Clearance Officer.

[FR Doc. 2023-20260 Filed 9-18-23; 8:45 am]

BILLING CODE 3410-20-P